DEPARTMENT OF HEALTH AND HUMAN SERVICES

Agency for Toxic Substances and Disease Registry

[Program Announcement 01043]

Program To Conduct and Coordinate Site-Specific Activities; Notice of Availability of Funds

A. Purpose

The Agency for Toxic Substances and Disease Registry (ATSDR) announces the availability of fiscal year (FY) 2001 funds for a cooperative agreement program to Conduct and Coordinate Site-Specific Activities. This program addresses the “Healthy People 2010” focus area of Environmental Health.

The purpose of the program is for recipients to conduct site-specific health activities to determine the public health impact of human exposure to hazardous substances at hazardous waste sites or releases. The ultimate goal of this program is to reduce exposures to hazardous substances and mitigate potential adverse health effects from such exposures. Specifically, funds will be used to build capacity in coordination and cooperation with ATSDR to conduct site-specific activities under the Comprehensive Environmental Response, Compensation, and Liability Act (CERCLA) and the Resource Conservation and Recovery Act (RCRA), including public health assessments, health consultations, exposure investigations, community involvement activities, health education, follow-up health investigations/studies and other programs related to exposure to hazardous substances in the environment. ATSDR considers a site as consisting of the actual boundaries of a release or facility along with the resident community and area potentially impacted by the subject release or facility.

B. Eligible Applicants

Assistance will be provided only to the health departments of states or their bona fide agents, and additionally to the District of Columbia, the Commonwealth of Puerto Rico, the Virgin Islands, the Commonwealth of the Northern Mariana Islands, American Samoa, Guam, the Federated States of Micronesia, the Republic of the Marshall Islands, the Republic of Palau, and federally recognized Indian tribal governments. In consultation with states, assistance may be provided to political subdivisions of states.

Note: Title 2 of the United States Code, Chapter 26, Section 1611 states that an organization described in section 501(c)(4) of the Internal Revenue Code of 1986 that engages in lobbying activities is not eligible to receive federal funds constituting an award, grant, cooperative agreement, contract, loan, or any other form.

C. Availability of Funds

Approximately $7,900,000 is available in FY 2001 to fund 23 to 28 awards. It is expected that the average award will be $300,000, ranging from $100,000 to $400,000. It is expected that the awards will begin on or about September 29, 2001, and will be made for a 12-month budget period within a project period of five years. Funding estimates may change.

Approximately $7,400,000 will be available to fund 23 to 28 awards for site specific activities.

Approximately $500,000 will be available to recipients applying to conduct health study activities. These funds will be available for conducting site-specific human health studies after review of site-specific data, submission of a study protocol with a supplemental budget for the proposed study, technical, objective, and peer review and approval of study protocols. If health study activities are not requested with the initial application, requests may be made in subsequent continuation applications. In years subsequent to FY 2001, it is anticipated that funds in the amount of $400,000 to $500,000 will be available for site-specific studies.

Applicants are encouraged to participate in public health activities that are under the jurisdiction of other federal agencies such as the Department of Defense (DOD), Department of Energy (DOE), National Aeronautics and Space Administration (NASA), and Bureau of Indian Affairs (BIA). Applicants must propose specific activities and once approved and funded, the funding for these activities must be tracked separately from the funds received for activities at other sites. In subsequent years of this announcement, recipient's requests for supplemental funds to conduct site-specific activities under the jurisdiction of other federal agencies must be coordinated with the Technical Project Team (TPT).

Applicants must compete for Site-Specific Core Activities (Public Health Assessments/Consultations, Exposure Investigations, Community Involvement and Preventive Health Education). Site-Specific Health Investigations/Studies may be requested as supplemental funding on an as-needed basis.

Continuation awards within an approved project period will be made on the basis of satisfactory progress in meeting the program goals and objectives as evidenced by required reports and the availability of funds.

Grantees currently funded under ATSDR's Program Announcements 607 or 98064 can apply under this announcement. If successful, the current award would replace the previous award (competitive renewal) for a total project period of five years. If a current grantee applies under this competitive renewal announcement and is unsuccessful or chooses not to apply under this announcement, it will not jeopardize the current award; ATSDR will honor the current awards through the expiration of the project period, subject to satisfactory progress and the availability of funds.

Use of Funds

Funds may be expended for reasonable program purposes, such as personnel, travel, supplies and services. Funds for contractual services may be requested. However, the recipient, as the direct and primary recipient of PHS grant funds, must perform a substantive role in carrying out project activities and not merely serve as a conduit for an award to another party or provide funds to an ineligible party.

Equipment may be purchased with cooperative agreement funds. However, the equipment proposed should be appropriate and reasonable for the activity to be conducted. The applicant, as part of the application process, should provide: (1) a justification for the need to acquire the equipment, (2) the description of the equipment, (3) the intended use of the equipment, and (4) the advantages/disadvantages of purchase versus lease of the equipment (if applicable). Requests for equipment purchases will be reviewed and approved only under the following conditions: (1) ATSDR retains the right to request return of all equipment purchased (in operable condition) with cooperative agreement funds at the conclusion of the project period, and (2) equipment purchased must be compatible with ATSDR hardware. Computers purchased with ATSDR funds should be IBM compatible and adhere to the Centers for Disease Control and Prevention (CDC)/ATSDR hardware standards.

Recipient activities may not be conducted with funds from this cooperative agreement program at any federal site where the state is a party to litigation at the site.

Funding Preferences

Funding preferences may be given for the following:

1. Geographic distribution across the entire United States.

2. Number of Comprehensive Environmental Response, Compensation, and Liability Information System (CERCLIS) sites (federal and non-federal) based on most current listing by EPA.

D. Program Requirements

In conducting activities to achieve the purpose of this program, the recipient will be responsible for the activities under 1. Recipient Activities and 2. Recipient Other Activities, and ATSDR will be responsible for the activities listed under 3. ATSDR Activities and 4. ATSDR Other Activities.

1. Recipient Activities

a. Public Health Assessment Activities—Conduct Public Health Assessments, including petitions for National Priorities List (NPL), Comprehensive Environmental Response, Compensation, and Liability Information System (CERCLIS) or other state-designated sites, facilities or releases within the recipient's territorial boundary in accordance with the methodology provided in the ATSDR Public Health Assessment Guidance Manual, ATSDR's Review and Handling Procedures for Public Health Assessments, and other applicable guidance. Prepare additional site evaluations (public health assessments or health consultations) to update public health assessments.

b. Petitions for Public Health Assessment Activities—Conduct initial data collection and site visit activities to decide how to respond to petitions for public health assessments. Make determinations of public health activities in response to petitions from individuals, physicians, community groups, and others. Review existing information and data pertaining to a site or release identified in a petition.

c. Health Consultations—Prepare a written or verbal response to a specific question or specific request for information about health risks posed by a specific site, chemical release, hazardous material, or other emergency response actions. Health consultations may also be written as a follow up to Public Health Assessments. Consultations may include the evaluation of environmental data, community concerns, health outcome data, and demographic characterizations, and the conduct of community outreach and interaction activities and site work plans.

d. Exposure Investigations—Exposure Investigations may be conducted as part of the public health assessment or health consultation process to better define human exposures. Exposure investigations include the collection of environmental or biological data and require the approval from the Technical Project Team (TPT) prior to the initiation of sample collection.

e. Community Involvement—

(1) Develop a site-specific community involvement plan which, at a minimum, should include: (a) Health communication strategies, (b) an implementation strategy, and (c) an evaluation strategy.

(2) Implement the community involvement plan and, where warranted based on the needs of the community, establish informal community workgroups or Community Assistance Panels.

f. Site-Specific Health Education—Site-specific environmental health education is a behavioral science, theory based process. An effective environmental health education intervention provides a clear, appropriate, and audience-specific message to assure sufficient knowledge and skills are in place to make informed decisions. Audiences may include health care providers, community members, elected officials, and sensitive populations such as children and women of child-bearing age.

(1) Prioritize sites where specific actions can be taken to minimize exposures or where significant public health concern exists.

(2) Assess needs and resources of the target audience and document the data in the appropriate Division of Health Education and Promotion (DHEP) reporting tool.

(3) Develop and document the health education intervention plan which includes goals, objectives, activities, and evaluation.

(4) Implement the activities in the intervention plan.

(5) Evaluate the plan by comparing baseline information with information that results after the intervention.

Some suggested tools for planning and evaluating health education activities include the PRECEDE-PROCEED planning model which can be found at the Internet address http://www.med.usf.edu/~kmbrown/PRECEDE_ PROCEED_Overview.htm and also, the Evaluation Framework for Community Health Programs (June, 2000, Center for Advancement of Community Based Public Health).

g. Stakeholder Involvement—Develop a plan for an integrated program focusing on coordinating site activities with stakeholders such as ATSDR, EPA, tribal communities, state and local health and environmental offices and agencies, communities, etc.

h. Site-Specific Evaluation Plan—Develop a site-specific evaluation plan prior to conducting activities. The plan should contain a component for the applicable activities undertaken at the site. Conduct evaluation of activities and projects and site-specific programs to determine if the requestor's needs have been met as well as the intended purpose of the activities. For evaluation planning purposes, formative process and impact/outcome measures should be included in the evaluation plan. Refer to the CDC Framework for Program Evaluation in Public Health (MMWR, September 17, 1999/48 RR11:1-40) as a model. ATSDR is currently developing a data base which will serve as a collection point for information on the impact and outcome of site activities.

i. Health Investigations/Studies—Based on the evaluation and recommendation of the TPT or other ATSDR decision-making process, and inclusion in the site public health action plan, follow-up health investigations/studies may be undertaken in populations whose health is or has been impacted by hazardous waste sites. Examples of follow-up health investigations/studies are: Biological Indicators of Exposure Studies, Cluster Investigations, Case Studies, Health Statistics Reviews, Community Health Investigations, and Site-Specific Surveillance.

(1) Develop a protocol and conduct the recommended study for those studies recommended previously by the TPT or other ATSDR decision-making process. This protocol will undergo scientific peer review as required by ATSDR and may require clearance by the Office of Management and Budget (OMB) before data collection can begin.

(2) Provide proof by citing a state code or regulation or other state pronouncement under authority of law, that medical information obtained pursuant to the agreement will be protected from disclosure when the consent of the individual to release identifying information is not obtained.

(3) Evaluation—Develop a site-specific evaluation plan as part of the work plan for Public Health Studies/Investigations, prior to the conduct of activities, as indicated in paragraph h. above.

j. Annual Plan of Work (APOW)—Collaborate with the TPT to develop a mutually agreed upon APOW to include the proposed site-specific activities to be conducted for the budget period, and respective time lines. The TPT is made up of representatives from the ATSDR Division of Health Assessment and Consultation (DHAC), ATSDR Division of Health Studies (DHS), ATSDR Division of Health Education and Promotion (DHEP), ATSDR Office of Regional Operations (ORO), and state and local counterparts. The TPT is responsible for assuring the planning, implementation, and evaluation of all public health actions for each site assigned to the team. The TPT meets to review data relative to the site and considers the following questions: is there or has there been a completed exposure pathway, and are humans at health risk?

k. Annual Program Evaluation—Collaborate with ATSDR on the evaluation of the total program using a standard evaluation instrument developed for this program. As a part of this effort, recipient will include the effectiveness of their overall capacity building efforts in addressing public health issues in communities living near hazardous waste sites. The results of this evaluation may impact the recipient's funding level in the subsequent years of this program.

2. Recipient Other Activities

a. Participate in the TPT program evaluation, and comply with established review and handling procedures for incorporating the results of recommendations into site evaluation activities.

b. Provide abstraction overview to ATSDR on the APOW and site activities through a shared data base called State Tracking and Reporting System (STARS), or other mechanisms.

c. Review and prepare written comments on EPA's draft Remedial Investigation/Feasibility Study (RI/FS), RI/FS work plans, and Records of Decision, and site-specific documents of the Recipient's environmental department.

d. Workshops—

(1) Participate in local, state, and federal health and environmental workshops and community meetings to discuss and respond to questions concerning a particular site's impact on public health.

(2) Participate in ATSDR-scheduled training classes or workshops to increase knowledge and skills in environmental public health.

e. Respond to ATSDR's requests concerning congressional inquiries/testimonies, program evaluation, or other information in carrying out the purpose of the project.

f. Provide timely responses within two weeks, when possible, to ATSDR's requests for site-specific costs and explanation of activities performed, and supporting documentation for Cost Recovery purposes. (See AR-18 in Attachment I.)

3. ATSDR Activities

a. Public Health Assessments—Collaborate with and assist recipient in conducting Public Health Assessment activities on CERCLIS, petition sites, or other state-designated sites, facilities or releases within the recipient's territorial boundary. This includes collaborating and assisting in preparing updates to public health assessments.

b. Petitions for Public Health Assessment Activities—Collaborate with and assist recipient in effectively conducting appropriate public health assessment activities in response to petitions from individuals, physicians, community groups, and others.

c. Health Consultations—Collaborate with and assist recipient in preparing a written or verbal response to a specific question or specific request for information about health risks posed by a specific site, chemical release, hazardous material, or other emergency response actions.

d. Exposure Investigations—Collaborate with and assist recipient in conducting Exposure Investigations.

e. Community Involvement—

(1) Assist in developing effective methods to conduct needs assessments in communities near hazardous waste sites and in defining goals and objectives of community involvement activities.

(2) Assist in development, implementation, and evaluation of the community involvement plan.

f. Site-specific Health Education—

(1) Collaborate in developing and reviewing all health educational materials to ensure scientific accuracy. Provide existing materials as requested. Collaborate in developing projects for specific target audiences.

(2) Collaborate with the recipient in implementing and evaluating health education programs.

g. Stakeholder Involvement—Collaborate with and assist recipient in developing a plan for an integrated program focusing on coordinating site activities with stakeholders.

h. Site-Specific Evaluation Plan—Collaborate with and assist recipient in developing a specific evaluation plan prior to conducting activities.

i. Health Investigations/Studies—As requested by the recipient, ATSDR is available to provide the following:

(1) Make recommendations regarding appropriate and necessary health investigations/studies.

(2) Provide assistance in both the planning and implementation phases of the field work called for under the study protocol.

(3) Provide consultation and assist in monitoring the data and specimen collection.

(4) Participate in the study analysis.

(5) Collaborate in interpreting the study findings.

(6) ATSDR will conduct technical and peer review.

j. Annual Plan of Work (APOW)—Collaborate with and assist recipient in developing a mutually agreed upon APOW that meets the goals of this announcement.

k. Annual Program Evaluation—Lead the evaluation of each recipient's total program using a standard evaluation instrument developed for this Program. As a part of this effort, ATSDR will conduct an evaluation of the effectiveness of overall capacity building efforts in addressing public health issues in communities living near hazardous waste sites. The results of this evaluation may impact the recipient's funding level in the subsequent years of this program.

4. ATSDR Other Activities

a. Initiate and conduct the program evaluation by the TPT.

b. Assist with abstraction overview for the database on each site for which site activities have been conducted.

c. Assist with recipient's review and preparation of written comments on EPA's draft Remedial Investigation/Feasibility Study (RI/FS), RI/FS work plans, Records of Decision, and site-specific documents of the recipient's environmental department.

d. Workshops—

(1) Assist recipient with participation in local, state, and Federal health and environmental workshops and community meetings to discuss and respond to questions concerning a particular site's impact on public health.

(2) Initiate and conduct ATSDR-scheduled training classes or workshops to increase recipient's knowledge and skills in environmental public health.

e. Assist recipient with ATSDR's requests concerning congressional inquiries/testimonies, program evaluation, or other information in carrying out the purpose of the project.

f. Provide technical assistance to recipient concerning Cost Recovery requirements.

E. Application Content

Use the information in the Program Requirements, Other Requirements, and Evaluation Criteria sections to develop the application content. Your application will be evaluated on the criteria listed, so it is important to follow them in laying out your program plan. The application package should be single-spaced, printed on one side, with one-inch margins, and unreduced font. It should not exceed 100 pages, including attachments, and should include a narrative proposal of 60 pages or less.

F. Submission and Deadline

Submit the original and two copies of PHS 5161-1 (OMB Number 0937-0189). Forms are available at the following Internet address: www.cdc.gov/od/pgo/forminfo.htm or in the application kit. On or before July 6, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by ATSDR. Applicants must compete for site-specific activities, as indicated below in section 1.

The proposed program will account for a total of 50 percent of the score from the evaluation criteria. Applications will be reviewed and evaluated according to the following criteria:

1. Applications for Site-Specific Activities

a. Proposed Program—50 Percent

Applicant's ability to address the following:

(1) Ability to respond to specific public health issues that occur as a result of actual or potential human exposure to a hazardous substance which includes methods to evaluate and analyze toxicological, community, and environmental health data; and ability to conduct and analyze data from exposure investigations.

(2) Description of involvement with communities in response to concern about a particular site's impact on public health. Ability to develop and provide preventive health education in a timely fashion in response to public health issues including appropriateness and thoroughness of the methods used to evaluate preventive health education; and the extent to which the site-specific evaluation plan includes measures of program outcome (i.e., effect of participant's knowledge, attitudes, skills, behaviors, exposure to hazardous substances).

(3) The degree to which the applicant has met the CDC Policy requirements regarding the inclusion of women, ethnic, and racial groups in the proposed research. This includes:

(a) The proposed plan for the inclusion of both sexes and racial and ethnic minority populations for appropriate representation.

(b) The proposed justification when representation is limited or absent.

(c) A statement as to whether the design of the study is adequate to measure differences when warranted.

(d) A statement as to whether the plans for recruitment and outreach for study participants include the process of establishing partnerships with communities and recognition of mutual benefits.

b. Program Personnel—25 Percent

The extent to which the proposal has described or provided biographical data on the:

(1) Manner in which an integrated “site “ team will be developed to address components of this program. A consistent site team is vital to this effort. An integrated health team consists of health assessors, health educators, community involvement specialists, and/or epidemiologists or health scientists.

(2) Appropriate qualifications, experience, leadership ability, and percentage of time project director (or principal investigator) will commit to the project.

(3) Appropriate qualifications, experience, and description of how staff will be utilized in relation to the activities to be performed to accomplish the work and their percentage of time to be spent on the project; curriculum vitae should be provided.

c. Capability—25 Percent

Description of the applicant's capability to carry out the proposed project, suitability of facilities, equipment available or to be purchased for the project, and ability to develop an integrated program focusing on coordinating site activities with stakeholders such as ATSDR, EPA, tribal governments, state and local health and environmental offices and agencies, communities, etc.

d. Program Budget—(not scored)

The extent to which the budget relates directly to project activities, is clearly justified, and is consistent with intended use of funds. The budget should include funds for one health assessor, one health educator, and one epidemiologist or health scientist (if a health study is being conducted or anticipated within the next 12 months) to attend the annual training meeting in Atlanta (five days).

e. Human Subjects—(not scored)

Whether or not exempt from the DHHS regulations, are procedures adequate for the protection of human subjects? Does the application adequately address the requirements of Title 45 CFR Part 46 for the protection of human subjects?

2. Applications for Site-Specific Health

Investigations/Studies

Applications for Health Investigations/Studies will be evaluated using the following criteria.

a. Proposed Program—50 Percent

Applicant's ability to address the following:

(1) An understanding of and capability to conduct human health studies. The application for a site-specific study should include a protocol for a human health study from those previously recommended by ATSDR for sites in the recipient's state for which a study has not commenced.

Site-specific protocol will be reviewed based on the following:

(a) The approach, feasibility, adequacy, and rationale of the proposed study design.

(b) The technical merit of the proposed study, including the methods and procedures (including quality assurance and quality control procedures) for the proposed study.

(c) The proposed time line, including clearly established objectives for which progress toward attainment can and will be measured.

(d) The proposed method to disseminate the results of the study to state and local public health officials, community residents, and other concerned individuals and organizations.

(2) The degree to which the applicant has met the CDC Policy requirements regarding the inclusion of women, ethnic, and racial groups in the proposed research. This includes:

(a) The proposed plan for the inclusion of both sexes and racial and ethnic minority populations for appropriate representation.

(b) The proposed justification when representation is limited or absent.

(c) A statement as to whether the design of the study is adequate to measure differences when warranted.

(d) A statement as to whether the plans for recruitment and outreach for study participants include the process of establishing partnerships with communities and recognition of mutual benefits.

b. Program Personnel—25 Percent

The extent to which the proposal described or provided biographical data on the:

(1) Manner in which an integrated “site” team will be developed to address components of this program. A consistent site team is vital to this effort. An integrated health team consists of health assessors, health educators, community involvement specialists, and/or epidemiologists or health scientists.

(2) Appropriate qualifications, experience, leadership ability, and percentage of time project director (or principal investigator) will commit to the project.

(3) Appropriate qualifications, experience, and description of how staff will be utilized in relation to the activities to be performed to accomplish the work and their percentage of time to be spent on the project; curriculum vitae should be provided.

c. Capability—25 Percent

Description of the applicant's capability to carry out the proposed project, suitability of facilities, equipment available or to be purchased for the project, and ability to develop an integrated program focusing on coordinating site activities with stakeholders such as ATSDR, EPA, tribal governments, state and local health and environmental offices and agencies, communities, etc.

d. Program Budget—(not scored)

The extent to which the budget relates directly to project activities, is clearly justified, and is consistent with intended use of funds. The budget should include funds for one health assessor, one health educator, and one epidemiologist, health scientist or principal investigator to attend the annual training meeting in Atlanta (five days).

e. Human Subjects—(not scored)

Whether or not exempt from the DHHS regulations, are procedures adequate for the protection of human subjects? Does the application adequately address the requirements of 45 CFR part 46 for the protection of human subjects?

H. Other Requirements

Technical Reporting Requirements

1. Provide CDC with original plus two copies of:

a. Annual progress reports, no more than 45 days after the end of the quarter. The progress reports must report on progress toward completing activities agreed to by ATSDR and the recipient.

b. Financial status report, no more than 90 days after the end of the budget period; and

c. Final financial and performance reports, no more than 90 days afer the end of the project period.

Send the above reports to the Grants Management Specialist identified in Section J., “Where to Obtain Additional Information” of this announcement.

The following additional requirements are applicable to this program. For a complete description of each, see Attachment I of the announcement.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-17 Peer and Technical Reviews of Final Reports of Health Studies—ATSDR

AR-18 Cost Recovery—ATSDR

AR-19 Third Party Agreements—ATSDR

AR-22 Research Integrity

I. Authority and Catalog of Federal Domestic Assistance Number

This program is authorized under sections 104(i) (1)(E), (4), (6), (7), (9), (14) and (15) of the Comprehensive Environmental Response, Compensation, and Liability Act (CERCLA) of 1980, as amended by the Superfund Amendments and Reauthorization Act (SARA) of 1986 (42 U.S.C. 9604(i)(1) (E), (4), (6), (7), (9), (14) and (15)), and Section 3019 (b) and (c) of the Resource Conservation and Recovery Act (RCRA), as amended (Hazardous and Solid Waste Amendments of 1984) (42 U.S.C. 6939a (b) and (c)). The catalog of Federal Domestic Assistance numbers are 93.161, 93.206, and 93.240.

J. Where To Obtain Additional Information

This and other CDC/ATSDR announcements can be found on the CDC home page Internet address—http://www.cdc.gov. Click on “Funding” then “Grants and Cooperative Agreements.”

To receive additional written information and to request an application kit, call 1-888-GRANTS4 (1-888-472-6874). You will be asked to leave your name and address and will be instructed to identify the Announcement number of interest.

If you have any questions after reviewing the contents of all the documents, business management technical assistance may be obtained from:

Nelda Godfrey, Grants Management Specialist, Grants Management Branch, Procurement and Grants Office, Centers for Disease Control and Prevention 2920 Brandywine Road, Room 3000, Atlanta, GA 30341-4146, Telephone number: 770-488-2722, E-mail address: nag9@cdc.gov

For program technical assistance, contact: Sharon Conley, Funding Resource Specialist, Agency for Toxic Substances and Disease Registry, Mailstop 60, 1600 Clifton Road, NE, Atlanta, GA 30333, Telephone number: 404-639-0559, E-mail address: sac7@cdc.gov

Dated: April 30, 2001.
Georgi Jones,
Director, Office of Policy and External Affairs, Agency for Toxic Substances and Disease Registry.

[FR Doc. 01-11219 Filed 5-3-01; 8:45 am]

BILLING CODE 4163-70-P